NATIONAL SCIENCE FOUNDATION

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Tuesday, July 17, 2018 from 8:00 a.m. to 4:45 p.m. and Wednesday, July 18, 2018, from 8:00 a.m. to 2:15 p.m. EDT.

PLACE: These meetings will be held at the NSF headquarters, 2415 Eisenhower Avenue, Alexandria, VA 22314. Meetings are held in the boardroom on the 2nd floor. The public may observe public meetings held in the boardroom. All visitors must contact the Board Office (call 703-292-7000 or send an email to nationalsciencebrd@nsf.gov) at least 24 hours prior to the meeting and provide your name and organizational affiliation. Visitors must report to the NSF visitor's desk in the building lobby to receive a visitor's badge.

STATUS: Some of these meetings will be open to the public. Others will be closed to the public. See full description below.

MATTERS TO BE CONSIDERED:

Tuesday, July 17, 2018

Plenary Board Meeting

Open Session: 8:00-8:25 a.m.

• NSB Chair's Opening Remarks

• NSF Director's Remarks

• Summary of DC Meetings

Committee on Oversight (CO)

Open Session: 8:25-9:15 a.m.

• Committee Chair's Opening Remarks

• Approval of Prior Minutes

• Summary of Merit Review Retreat

• Presentation on Enterprise Risk Management

• Inspector General's Update

• Chief Financial Officer's Update

Committee on National Science and Engineering Policy (SEP)

Open Session: 9:15-10:05 a.m.

• Committee Chair's Opening Remarks

• Approval of Prior Minutes

• Update on Future Indicators Project

Plenary Board

Open Session 10:15 a.m.-12:00 p.m.

Presentation and Panel Discussion—“Being Smart About Artificial Intelligence (AI)”

• Chair's Opening Remarks and Introductions

• Presentation, Dr. Andrew Moore, Carnegie Mellon University

• Panel Presentations and Discussion

• Dr. Michael Jordan, University of California, Berkeley

• Dr. Daniela Rus, Massachusetts Institute of Technology

• Dr. Charles Isbell, Georgia Institute of Technology

• Dr. James Kurose, Assistant Director, Computer & Information Science & Engineering

Committee on Strategy (CS)

Open Session: 1:00-1:30 p.m.

• Committee Chair's Opening Remarks

• Approval of Prior Minutes

• FY 2018 Appropriations and FY 2019 Budget Request Update

Committee on Awards and Facilities (A&F)

Open Session: 1:30-2:00 p.m.

• Committee Chair's Opening Remarks

• Approval of Prior Minutes

• CY 2018-2019 Schedule of Planned Action and Information Items

• Update on the Status of Regional Class Research Vessel Construction

• Discussion of the Information Item/Action Item Sequence

Committee on Awards and Facilities (A&F)

Closed Session: 2:00-4:45 p.m.

• Committee Chair's Opening Remarks

• Approval of Prior Minutes

• Action Item: Leadership-Class Computing Phase I Acquisition

• Action Item: Seismological facility for the Advancement of GEosciences (SAGE) Operations & Maintenance Award

• Action Item: Geodetic facility for the Advancement of GEosciences (GAGE) Operations & Maintenance Award

• Action Item: Candidate MREFC-funded Upgrades of the ATLAS and CMS Detectors at the Large Hadron Collider

• Information Item: Astronomy Facility Transitions

MATTERS TO BE DISCUSSED:

Wednesday, July 18, 2018

Committee on External Engagement (EE)

Open Session: 8:00-8:50 a.m.

• Committee Chair's Opening Remarks

• Approval of Prior Minutes

• Listening Session Report

• NSB Alumni Network

• Congressional Engagement Plan

Task Force on the Skilled Technical Workforce (STW)

Open Session: 8:50-9:30 a.m.

• Chair's Opening Remarks

• Approval of Prior Minutes

• Update and Discussion on Stakeholder Meetings

• Discussion of Focus Areas for the Task Force

Committee on Strategy (CS)

Closed Session: 9:30-10:30 a.m.

• Committee Chair's Opening Remarks

• Approval of Prior Minutes

• FY 2020 Budget Discussion

Plenary Board

Closed Session: 10:45-11:35 a.m.

• Board Chair's Opening Remarks

• Director's Remarks

• Approval of Prior Minutes

• Closed Committee Reports

• Midscale Research Infrastructure Report

• Vote: ATLAS and CMS Upgrades

• Vote: GAGE O&M

• Vote: SAGE O&M

• Vote: Leadership-Class Computing Phase I Acquisition

• Vote: Contract Services for Arctic Research Support and Logistics

Plenary Board (Executive)

Closed Session: 11:35-11:50 a.m.

• Board Chair's Opening Remarks

• Approval of Prior Minutes

• Director's Remarks

Plenary Board

Open Session: 11:50 a.m.-2:15 p.m.

• Board Chair's Opening Remarks

• Introduction of Presentation on the National Academies and Board of International Scientific Organizations (Break for lunch from 12:20-1:15 p.m.)

• Board Chair's Opening Remarks

• NSF Director's Remarks

• Approval of Prior Minutes

• Vote: NSB Calendar for CY 2019

• Open Committee Reports

• NSF INCLUDES Presentation

• Board Chair's Closing Remarks

Meeting Adjourns: 2:15 p.m.

MEETINGS THAT ARE OPEN TO THE PUBLIC:

Tuesday, July 17, 2018

8:00-8:25 a.m. Plenary NSB Introduction

8:20-9:15 a.m. Committee on Oversight (CO)

9:15-10:05 a.m. Committee on Science & Engineering Policy (SEP)

10:15 a.m.- 12:00 p.m. Plenary Panel on Artificial Intelligence

1:00-1:30 p.m. Committee on Strategy (CS)

1:30-2:00 p.m. Committee on Awards & Facilities (A&F)

Wednesday, July 18, 2018

8:00-8:50 a.m. Committee on External Engagement (EE)

8:50-9:30 a.m. Task Force on Skilled Technical Workforce (STW)

11:50 a.m.-2:15 p.m. Plenary (break for lunch from 12:20-1:15 p.m.)

MEETINGS THAT ARE CLOSED TO THE PUBLIC:

Tuesday, July 17, 2018

2:00-4:45 p.m. (A&F)

Wednesday, July 18, 2018

9:30-10:30 a.m. (CS)

10:45-11:35 a.m. Plenary

11:35-11:50 a.m. Plenary Executive

CONTACT PERSONS FOR MORE INFORMATION: The NSB Office contact is Brad Gutierrez, bgutierr@nsf.gov, 703-292-7000. The NSB Public Affairs contact is Nadine Lymn, nlymn@nsf.gov, 703-292-2490.

SUPPLEMENTAL INFORMATION: Public meetings and public portions of meetings held in the 2nd floor boardroom will be webcast. To view these meetings, go to: http://www.tvworldwide.com/events/nsf/180 717 and follow the instructions. The public may observe public meetings held in the boardroom. The address is 2415 Eisenhower Avenue, Alexandria, VA, 22314.

Please refer to the NSB website for additional information. You will find any updated meeting information and schedule updates (time, place, subject matter, or status of meeting) at https://www.nsf.gov/nsb/meetings/notices.jsp#sunshine.

The NSB will continue its program to provide some flexibility around meeting times. After the first meeting of each day, actual meeting start and end times will be allowed to vary by no more than 15 minutes in either direction. As an example, if a 10:00 meeting finishes at 10:45, the meeting scheduled to begin at 11:00 may begin at 10:45 instead. Similarly, the 10:00 meeting may be allowed to run over by as much as 15 minutes if the Chair decides the extra time is warranted. The next meeting would start no later than 11:15. Arrive at the NSB boardroom or check the webcast 15 minutes before the scheduled start time of the meeting you wish to observe.

Chris Blair,
Executive Assistant to the National Science Board Office.

[FR Doc. 2018-14984 Filed 7-10-18; 11:15 am]

BILLING CODE 7555-01-P